NATIONAL AERONAUTICS AND SPACE ADMINISTRATION

[Notice (13-058)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: May 20, 2013.

FOR FURTHER INFORMATION CONTACT: James J. McGroary, Patent Counsel, Marshall Space Flight Center, Mail Code LS01, Huntsville, AL 35812; telephone (256) 544-0013; fax (256) 544-0258.

NASA Case No.: MFS-32612-1-CIP: Safety System for Controlling Fluid Flow Into a Suction Line;

NASA Case No.: MFS-32830-1-DIV: Friction and Wear Modifiers Using Solvent Partitioning of Hydrophilic Surface-Interactive Chemicals Contained in Boundary Layer-Targeted Emulsions;

NASA Case No.: MFS-32744-1: Interconnect Device and Assemblies Made Therewith.

Sumara M. Thompson-King,
Deputy General Counsel.

[FR Doc. 2013-11946 Filed 5-17-13; 8:45 am]

BILLING CODE 7510-13-P